ENVIRONMENTAL PROTECTION AGENCY

[FRL-10974-01-R5]

Clean Air Act Operating Permit Program; Petition for Objection to State Operating Permits for Premcor Refining Group, Inc., Premcor Alsip Distribution Center, and ExxonMobil Pipeline Company, Des Plaines Terminal, Cook County, Illinois

AGENCY: Environmental Protection Agency (EPA).

ACTION: Notice of final Order on petition for objection to a Clean Air Act title V operating permit.

SUMMARY: The Environmental Protection Agency (EPA) Administrator signed an Order dated May 1, 2023, denying two petitions dated July 23, 2022 (the Premcor Petition) and November 14, 2022, (the ExxonMobil Petition), submitted by an anonymous petitioner, C23D32 (the Petitioner). The Petitions requested that EPA object to two Clean Air Act (CAA) title V operating permits issued by the Illinois Environmental Protection Agency (IEPA) to Premcor Refining Group's Alsip Distribution Center (Premcor) and ExxonMobil Pipeline Company's Des Plaines Terminal (ExxonMobil), both located in Cook County, Illinois.

ADDRESSES: The final Order, the Petitions, and other supporting information are available for public inspection during normal business hours at the following address: Environmental Protection Agency, Region 5, Air and Radiation Division, 77 West Jackson Boulevard, Chicago, Illinois 60604. This facility is open from 8:30 a.m. to 4:30 p.m., Monday through Friday, excluding Federal holidays and facility closures due to COVID-19. We recommend that you contact the individual listed in the FOR FURTHER INFORMATION CONTACT section before visiting the Region 5 office. Additionally, the final Order and Petitions are available electronically at: https://www.epa.gov/title-v-operating-permits/title-v-petition-database.

FOR FURTHER INFORMATION CONTACT: Danny Marcus, Air Permits Section, Air Programs Branch (AR-18J), Environmental Protection Agency, Region 5, 77 West Jackson Boulevard, Chicago, Illinois 60604, (312) 353-8781, marcus.danny@epa.gov.

SUPPLEMENTARY INFORMATION: Throughout this document whenever “we,” “us,” or “our” is used, we mean EPA.

The CAA affords EPA a 45-day period to review and object to, as appropriate, operating permits proposed by state permitting authorities under title V of the CAA. Section 505(b)(2) of the CAA authorizes any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or unless the grounds for the issues arose after this period.

On July 23, 2022, EPA received the Premcor Petition from the Petitioner requesting that EPA object to IEPA's July 11, 2022, modification of Premcor's operating permit no. 96030063. The Premcor Petition alleges that IEPA's issuance of the permit modification was unlawful because IEPA improperly processed a significant change to testing requirements in Premcor's permit as a minor modification. The Petitioner structured the Premcor Petition into the following five “claims”: (1) IEPA relaxed testing requirements without public outreach, in violation of IEPA's environmental justice (EJ) practices and policies; (2) IEPA made changes to the permit based on a “secretive template”; (3) the “sheer amount of changes” that IEPA appears to have made to the permit is enough to show a public comment period was warranted; (4) IEPA made changes to title I construction permits that should have been considered a significant change to the permit; and (5) the permit modification allows the facility to delay testing, which is a violation of human rights and will result in “no testing ever being conducted” and no “demonstration of compliance.”

On November 14, 2022, EPA received the ExxonMobil Petition from the Petitioner requesting that EPA object to IEPA's July 11, 2022, modification of ExxonMobil's operating permit no. 95060060. Similar to the Premcor Petition, the ExxonMobil Petition alleges that IEPA improperly processed a significant change to testing requirements in ExxonMobil's title V permit as a minor modification. The Petitioner structured the ExxonMobil Petition into the following two “claims”: (1) IEPA violated its EJ practices and policies by relaxing a “critical air pollution control device test requirement” without conducting public outreach and failed to give the public an opportunity to comment on the “gross relaxation” of testing at the terminal; and (2) IEPA deleted testing requirements in violation of human rights.

On May 1, 2023, the EPA Administrator issued an Order denying both Petitions. The Order explains the basis for EPA's decision.

Sections 307(b) and 505(b)(2) of the CAA provide that a petitioner may request judicial review of those portions of an order that deny issues in a petition. Any petition for review of the Administrator's May 1, 2023, Order shall be filed in the United States Court of Appeals for the appropriate circuit no later than July 31, 2023.

Authority: 42 U.S.C. 7401 et seq.

Dated: May 25, 2023.
Debra Shore,
Regional Administrator, Region 5.

[FR Doc. 2023-11635 Filed 5-31-23; 8:45 am]

BILLING CODE 6560-50-P